DEPARTMENT OF COMMERCE

International Trade Administration

[A-533-824]

Polyethylene Terephthalate Film, Sheet, and Strip From India: Final Results of Antidumping Duty Administrative Review; 2012-2013

AGENCY: Enforcement and Compliance, International Trade Administration, Department of Commerce.

SUMMARY: The Department of Commerce (the Department) published its preliminary results of the administrative review of the antidumping duty (AD) order on polyethylene terephthalate film, sheet, and strip (PET Film) from India on August 25, 2014.¹ The period of review is July 1, 2012, through June 30, 2013. This review covers respondents Jindal Poly Films Limited (Jindal) and SRF Limited (SRF). For the final results, we continue to find that Jindal did, and that SRF did not, make sales of subject merchandise at less than normal value.

¹ See Polyethylene Terephthalate Film, Sheet, and Strip From India: Preliminary Results and Partial Rescission of Antidumping Duty Administrative Review; 2012-2013, 79 FR 50620 (August 25, 2014) (Preliminary Results).

DATES: Effective Date: March 2, 2015.

FOR FURTHER INFORMATION CONTACT: Myrna Lobo, AD/CVD Operations, Office VII, Enforcement and Compliance, International Trade Administration, U.S. Department of Commerce, 14th Street and Constitution Avenue NW., Washington, DC 20230; telephone: (202) 482-2371.

SUPPLEMENTARY INFORMATION:

Background

On August 25, 2014, the Department published the Preliminary Results. We invited interested parties to comment on the Preliminary Results. Jindal submitted a case brief on October 1, 2014. SRF submitted a letter in lieu of a case brief on the same day, stating that it agrees with the Preliminary Results.

On September 5, 2014, the Department issued a supplemental questionnaire to Jindal,² and received a response from Jindal on September 12, 2014.³

² See Department letter to Jindal, “2012-2013 Administrative Review of Polyethylene Terephthalate (PET) Film Sheet and Strip from India, Second Supplemental Questionnaire,” dated September 5, 2014.

³ See Letter from Jindal Poly Films Ltd., “Polyethylene Terephthalate Film, Sheet and Strip from India/Antidumping Duty/Jindal Poly Films Ltd./Response to Second Supplemental Questionnaire,” dated September 12, 2014.

On November 18, 2014, the Department extended the deadline for issuance of these final results from December 23, 2014 to February 23, 2015.⁴

⁴ See Memorandum to Christian Marsh, Deputy Assistant Secretary for Antidumping and Countervailing Operations, “Polyethylene Terphthalate Film, Sheet and Strip from India: Extension of Deadline for Final Results of Antidumping Duty Administrative Review—2012-2013” (November 18, 2014).

Scope of the Order

The products covered by the AD order are all gauges of raw, pretreated, or primed PET Film, whether extruded or coextruded. Excluded are metallized films and other finished films that have had at least one of their surfaces modified by the application of a performance-enhancing resinous or inorganic layer of more than 0.00001 inches thick. Imports of PET Film are currently classifiable in the Harmonized Tariff Schedule of the United States (HTSUS) under item number 3920.62.00.90. HTSUS subheadings are provided for convenience and customs purposes. The written description of the scope of the antidumping duty order is dispositive.

Analysis of Comments Received

All issues raised in the case brief are addressed in the Issues and Decision Memorandum. A list of issues raised and to which we respond in the Issues and Decision Memorandum is attached to this notice as an Appendix. The Issues and Decision Memorandum is a public document and is on file electronically via Enforcement and Compliance's Antidumping and Countervailing Duty Centralized Electronic Service System (ACCESS).⁵ ACCESS is available to registered users at http://iaaccess.trade.gov, and is available to all parties in the Central Records Unit, room 7046 of the main Department of Commerce building. In addition, a complete version of the Issues and Decision Memorandum can be accessed directly on the Internet at http://trade.gov/enforcement/. The signed Issues and Decision Memorandum and the electronic versions of the Issues and Decision Memorandum are identical in content.

⁵ On November 24, 2014, Enforcement and Compliance changed the name of Enforcement and Compliance's AD and CVD Centralized Electronic Service System (“IA ACCESS”) to ACCESS. The Web site location was changed from http://iaaccess.trade.gov to http://access.trade.gov. The Final Rule changing the references to the Regulations can be found at 79 FR 69046 (November 20, 2014).

Changes Since the Preliminary Results

Based on a review of the record and comments received from interested parties regarding our Preliminary Results, we have made no changes to SRF's or Jindal's calculations. However, both SRF's and Jindal's final rate in the companion countervailing duty administrative review has changed since the preliminary results of that review.⁶ Since the changes in the countervailing duty rates are partially attributable to changes in their export subsidies, we have adjusted SRF's and Jindal's reported U.S. prices and, accordingly, recalculated the weighted-average dumping margins for Jindal and SRF for these final results.⁷

⁶ See Polyethylene Terephthalate Film, Sheet, and Strip From India: Preliminary Results and Partial Recission of Countervailing Duty Administrative Reivew; 2012, 79 FR 50616, 50617 (August 25, 2014).

⁷ See Memoranda to Thomas Gilgunn, Program Manager “Analysis Memorandum for the Final Results of the Antidumping Duty Administrative Review of Polyethylene Terephthalate Film, Sheet, and Strip from India: Jindal Poly Films Limited, and “Analysis Memorandum for the Final Results of the Antidumping Duty Administrative Review of Polyethylene Terephthalate Film, Sheet, and Strip from India: SRF Limited,” both dated concurrently with these final results.

Final Results of Review

As a result of our review, we determine the following weighted-average dumping margins exist for the period July 1, 2012, through June 30, 2013.

Producer or exporter | Weighted- average dumping margin (percent)
Jindal Poly Films Limited | 1.89
SRF Limited | 0.00

Assessment Rates

The Department determines, and U.S. Customs and Border Protection (CBP) shall assess, antidumping duties on all appropriate entries. We will instruct CBP to liquidate entries of merchandise produced and/or exported by Jindal and SRF. The Department will issue assessment instructions to CBP 15 days after the date of publication of the final results of review. Where a respondent's weighted-average dumping margin is not zero or de minimis (i.e., less than 0.5 percent), the Department will calculate importer-specific assessment rates. Where the respondent reported the entered value for its sales, we calculated importer-specific ad valorem assessment rates based on the ratio of the total amount of dumping calculated for the examined sales to the total entered value of those same sales.⁸ However, where the respondent did not report the entered value for its sales, we will calculate importer-specific per-unit duty assessment rates. We will instruct CBP to assess antidumping duties on all appropriate entries covered by this review where the actual or estimated ad valorem assessment rate calculated in the final results of this review is not zero or de minimis. Pursuant to 19 CFR 351.106(c)(2), we will instruct CBP to liquidate without regard to antidumping duties any entries for which the assessment rate is zero or de minimis.⁹

⁸ See 19 CFR 351.212(b).

⁹ See 19 CFR 351.106(c)(1).

Cash Deposit Requirements

The following deposit requirements will be effective for all shipments of PET Film from India entered, or withdrawn from warehouse, for consumption on or after the date of publication of the final results of this administrative review, as provided for by section 751(a)(2)(C) of the Act: (1) The cash deposit rate for the company under review will be equal to the weighted-average dumping margin established in the final results of this review (except, if the rate is de minimis, i.e., less than 0.5 percent, then the cash deposit rate will be zero); (2) for previously reviewed or investigated companies not listed above, the cash deposit rate will continue to be the company-specific rate published in the completed segment for the most recent period for that company; (3) if the exporter is not a firm covered in this review, a prior review, or the less-than-fair-value investigation, but the manufacturer is, the cash deposit rate will be the rate established in the completed segment for the most recent period for the manufacturer of the merchandise; and (4) if neither the exporter nor the manufacturer is a firm covered in this or any other completed segment of this proceeding, then the cash deposit rate will be the all others rate for this proceeding, 5.71 percent. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notifications to Interested Parties

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act.

Dated: February 22, 2015.
Paul Piquado,
Assistant Secretary for Enforcement and Compliance.

Appendix

I. Summary

II. Background

Scope of the Order

III. Discussion of the Issues

Comment 1: Quantity Discount Adjustment

Comment 2: Consideration of an Alternative Comparison Method in Administrative Reviews

Comment 3: Differential Pricing Analysis

[FR Doc. 2015-04273 Filed 2-27-15; 8:45 am]

BILLING CODE 3510-DS-P